TENNESSEE VALLEY AUTHORITY

Environmental Impact Statement for 500-kV Transmission Line in Middle Tennessee

AGENCY: Tennessee Valley Authority.

ACTION: Notice of intent.

SUMMARY: The Tennessee Valley Authority (TVA) will prepare an environmental impact statement (EIS) addressing the proposed construction and operation of a new 500-kV transmission system in northern Middle Tennessee. This 500-kV transmission line would be located within a study area extending from near Cumberland City northeast to Clarksville and southeast to near Nashville, and including parts of seven counties in Tennessee. The EIS will evaluate the potential environmental impacts of the construction, operation, and maintenance of the line. TVA will use the EIS process to obtain public involvement on this proposal. Public comment is invited concerning both the scope of the EIS and environmental issues that should be addressed as a part of this EIS.

DATES: Comments on the scope and environmental issues for the EIS must be postmarked or e-mailed no later than December 31, 2001 to ensure consideration. Late comments will receive every consideration possible.

ADDRESSES: Written comments should be sent to Charles P. Nicholson, NEPA Specialist, Environmental Policy and Planning, Tennessee Valley Authority, mail stop WT 8C, 400 West Summit Hill Drive, Knoxville, Tennessee 37902-1499. Comments may be e-mailed to cpnicholson@tva.gov.

FOR FURTHER INFORMATION CONTACT: Hugh S. Barger, Transmission/Power Supply, Tennessee Valley Authority, mail stop MR 4G-C, 1101 Market Street, Chattanooga, Tennessee 37402-2801. Telephone (423) 751-3131. E-mail may be sent to hsbarger@tva.gov.

SUPPLEMENTARY INFORMATION:

Background

Electric loads in the Nashville and surrounding areas of Middle Tennessee have grown steadily in the recent past and are projected to continue to grow. In addition, new electrical generation is being connected to the TVA system, particularly in the western portion of the TVA service area. These two factors have combined to create two potentially serious problems: transmission system overloading and damage to electrical generating units.

TVA has studied this problem and has tentatively concluded that the best method of remedying these problems is the construction of a new 500-kV transmission line that would allow the additional movement of large quantities of power from the western part of its system to the Middle Tennessee area.

Project Description

The project would involve the construction of a new 500-kV transmission line from TVA's Cumberland Fossil Plant to one of two locations; either TVA's Montgomery, TN 500-kV substation located northeast of Clarksville, or TVA's Davidson, TN 500-kV substation located southwest of Nashville. The line would likely be built using self-supporting, laced steel towers on right-of-way 175 feet in width. A line to the Montgomery substation would be around 30 miles long, and a line to the Davidson substation would be around 45 miles long. Neither detailed routing studies nor line design studies have yet been conducted. The line structure type, right-of-way characteristics, and line length remain to be determined and could change when additional information is gathered.

Line construction would require removal of trees within the line right-of-way as well as any other nearby tall trees which would endanger the safe operation of the line. Construction of the support structures would require the excavation of foundations for each of the tower legs. Cranes and other heavy equipment would be needed to construct the towers and pull the electrical conductor into place. After construction, the land disturbed would be restored and the right-of-way would be periodically maintained to prevent the growth of tall vegetation which would endanger the line. The EIS will provide a detailed description of these activities, as well as applicable and appropriate environmental protection measures.

After the completion of scoping, TVA will begin its detailed line routing studies using maps, aerial photography and other relevant data. When the studies have progressed sufficiently, potentially affected landowners will be contacted directly, and additional field surveys will be conducted.

Proposed Issues To Be Addressed

The EIS will describe the existing environmental and socioeconomic resources within the area that would be affected by construction and operation of a transmission line. TVA's evaluation of environmental impacts to these resources will include, but not necessarily be limited to, the potential impacts on water quality, aquatic and terrestrial ecology, endangered and threatened species, wetlands, aesthetics and visual resources, land use, historic and archaeological resources, and socioeconomic resources.

Alternatives

The results of evaluating the potential environmental impacts and other important issues identified in the scoping process, as well as, engineering and economic considerations will be used by TVA in selecting a preferred alternative. At this time, the range of alternatives TVA has identified for detailed evaluation include no action and construction and operation of a 500-kV transmission line from Cumberland Fossil Plant to one of two possible sites.

Scoping Process

Scoping, which is integral to the NEPA process, is a procedure that solicits public input to the EIS process to ensure that: (1) Issues are identified early and properly studied; (2) issues of little significance do not consume substantial time and effort; (3) the draft EIS is thorough and balanced; and (4) delays caused by an inadequate EIS are avoided. TVA's NEPA procedures require that the scoping process commence soon after a decision has been reached to prepare an EIS in order to provide an early and open process for determining the scope and for identifying the significant issues related to a proposed action. The scope of alternatives and issues to be addressed in the draft EIS will be determined, in part, from written comments submitted by mail or e-mail, and comments presented orally or in writing at public meetings. The preliminary identification in this notice of reasonable alternatives and environmental issues is not meant to be exhaustive or final.

The scoping process will include both interagency and public scoping. The public is invited to submit written comments or e-mail comments on the scope of this EIS no later than the date given under the DATES section of this notice.

TVA will conduct two public scoping meetings within the project study area. The first meeting will be held at the Tennsco Community Center, 115 Tennsco Drive in Dickson, Tennessee on November 28, 2001 and the second will be held at the Burt-Cobb Community Center, 1011 Franklin Street in Clarksville, Tennessee on November 29, 2001. These informal meetings will begin at 1 p.m. and end at 7 p.m. At each meeting, TVA management and project staff will present overviews of the EIS process and the proposed transmission line project, answer questions, and solicit comments on the issues that the public would like addressed in the EIS. These meetings will be publicized through notices in local newspapers, by TVA press releases, on the TVA Web site at http://www.tva.gov/environment/calendar.htm and in letters to local elected officials preceding the public meetings.

The agencies to be included in the interagency scoping are U.S. Army Corps of Engineers, U.S. Army—Fort Campbell, U.S. Fish and Wildlife Service, Tennessee Department of Environment and Conservation, the Tennessee State Historic Preservation Officer and other federal, state, and local agencies, as appropriate. After consideration of the scoping comments, TVA will further identify alternatives and environmental issues to be addressed in the EIS. Following analysis of the environmental consequences of each alternative, TVA will prepare a draft EIS for public review and comment. Notice of availability of the draft EIS will be published by the Environmental Protection Agency in the Federal Register. TVA will solicit written comments on the draft EIS, and information about possible public meetings to comment on the draft EIS will be announced. TVA expects to release a draft EIS by late summer, 2002 and a final EIS by June 2003.

Dated: November 20, 2001.
Kathryn J. Jackson,
Executive Vice President, River System Operations & Environment.

[FR Doc. 01-29490 Filed 11-26-01; 8:45 am]

BILLING CODE 8120-08-P